MILITARY COMPENSATION AND RETIREMENT MODERNIZATION COMMISSION

Agency Information Collection: Emergency Submission for OMB Review (Survey of Military Retirees); Comment Request

AGENCY: Military Compensation and Retirement Modernization Commission.

ACTION: Notice.

SUMMARY: In compliance with the Paperwork Reduction Act (PRA) of 1995 (44 U.S.C. §§ 3501-3521) the Military Compensation and Retirement Modernization Commission (MCRMC) will submit to the Office of Management and Budget (OMB) the following emergency proposal for the collection of information under Section 3507(j)(1) of the PRA. An emergency clearance is being requested for the collection of information from military retirees. Comments are being sought on the proposed survey.

DATES: Consideration will be given to all comments received on or before January 15, 2014.

ADDRESSES: Send comments concerning the information collection to MCRMC's OMB desk officer at oira_submission@OMB.eop.gov.

FOR FURTHER INFORMATION CONTACT: Christopher Nuneviller, Associate Director, Military Compensation and Retirement Modernization Commission, P.O. Box 13170, Arlington VA 22209, telephone 703-692-2080, fax 703-697-8330, email response@mcrmc.gov.

SUPPLEMENTARY INFORMATION: The Military Compensation and Retirement Modernization Commission (MCRMC) was established by the National Defense Authorization Act FY 2013, Public Law 112-239, 126 Stat. 1787 (2013), to conduct a review of the military compensation and retirement systems and to make recommendations to modernize those systems in a report to be transmitted to the President by May 1, 2014. Pursuant to the Act, the Commission is required to examine all laws, policies and practices of the Federal Government that result in any direct payment of authorized or appropriated funds to current and former members (veteran and retired) of the uniformed services, including the reserve components of those services, as well as the spouses, family members, children, survivors, and other persons authorized to receive such payments as a result of their connection to the members of these uniformed services (§ 671(b)(1)(A)) and to seek written comment from the general public and interested parties, to hold public hearings and to examine such other matters as it considers appropriate (§ 671(b)(1)(C)).

The Commission considers it essential to survey the recipients of the government funding that is the focus of the statute in order to write the report due May 1, 2014. The Commission has designed a survey that measures preferences for alternative levels and types of compensation across a broad cross-section of people either directly or indirectly benefiting from various forms of military compensation. In our review of existing surveys, we have determined that no available sources cover the demographic diversity of participants the Commission would like to cover using a preference-based approach. Because the statute requires the Commission to produce a report by May 1, 2014, the agency cannot comply with normal clearance procedures for authorizing a survey and it is requesting emergency processing.

Respondents: Military Retirees.

Estimated Number of Respondents: 50,000.

Estimated Number of Responses: 5,000.

Frequency of Response: One time.

Average Hours of Response: .5 hours.

Total Estimated Burden: 2,500.

Christopher Nuneviller,
Associate Director, Administration and Operations.

[FR Doc. 2013-29432 Filed 12-9-13; 8:45 am]

BILLING CODE P